DEPARTMENT OF THE INTERIOR

National Park Service

[NPS-WASO-NAGPRA-22931; PPWOCRADN0-PCU00RP14.R50000]

Notice of Intent To Repatriate Cultural Items: St. Joseph Museums, Inc., St. Joseph, MO

AGENCY: National Park Service, Interior.

ACTION: Notice.

SUMMARY: The St. Joseph Museums, Inc., in consultation with the appropriate Indian tribes or Native Hawaiian organizations, has determined that the cultural items listed in this notice meet the definition of unassociated funerary objects. Lineal descendants or representatives of any Indian tribe or Native Hawaiian organization not identified in this notice that wish to claim these cultural items should submit a written request to the St. Joseph Museums, Inc. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the St. Joseph Museums, Inc., at the address in this notice by April 14, 2017.

ADDRESSES: Trevor Tutt, St. Joseph Museums, Inc., P.O. Box 8096, St. Joseph, MO 64508, telephone (816) 232-8471, email trevor@stjosephmuseum.org.

SUPPLEMENTARY INFORMATION: Notice is here given in accordance with the Native American Graves Protection and Repatriation Act (NAGPRA), 25 U.S.C. 3005, of the intent to repatriate cultural items under the control of the St. Joseph Museums, Inc., St. Joseph, MO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1942, seven unassociated funerary objects were donated to the St. Joseph Museums, Inc., by William M. Wyeth, having been removed from the King Hill site (23BN1) in Buchanan County, MO. The site was known to be a burial mound. The seven unassociated funerary objects are 2 celts; 1 stone implement; 1 projectile point; 1 knife; 1 hoe; and 1 shell necklace.

In 1951, three unassociated funerary objects were donated to the St. Joseph Museums, Inc., by Claude Madison, having been removed from the King Hill site (23 BN 1) in Buchanan County, MO. The site was known to be a burial mound. The three unassociated funerary objects are 1 scraper or knife and 2 axe heads.

In June of 1981, four unassociated funerary objects were donated to the St. Joseph Museums, Inc., by Lester Watkins, having been removed from the King Hill site (23 BN 1) in Buchanan County, MO. The site was known to be a burial mound. The four unassociated funerary objects are 4 shell tempered pot sherds.

In May of 1982, 97 unassociated funerary objects were donated to the St. Joseph Museums, Inc., having been removed from the King Hill site (23 BN 1) in Buchanan County, MO. The site was known to be a burial mound. The 97 unassociated funerary objects are 8 stone artifacts, 1 shell, 8 scrapers, 19 pottery sherds, 26 projectile points, 4 grind stones, 3 handles, 28 animal bones.

In September of 1992, four unassociated funerary objects were donated to the St. Joseph Museums, Inc., by Bobby Sipes, having been removed from the King Hill site (23 BN 1) in Buchanan County, MO. The site was known to be a burial mound. The four unassociated funerary objects are 3 projectile points and 1 drill.

In 1995, four unassociated funerary objects were donated to the St. Joseph Museums, Inc., having been removed from the King Hill site (23 BN 1) in Buchanan County, MO. The site was known to be a burial mound. The four unassociated funerary objects are 4 stones.

In 1999, 105 unassociated funerary objects were donated to the St. Joseph Museums, Inc., as part of the Shippee Collection, having been removed from the King Hill site (23 BN 1) in Buchanan County, MO; site 23 CP 1 in Cooper County, MO; and sites 23 PL 1, 23 PL 20, 23 PL 21 A, 23 PL 25, 23 PL 29, 23 PL 30, 23 PL 38, 23 PL 4, and 23 PL 6 in Platte County, MO. The sites were known to be burial mounds, but no human remains were donated in affiliation with these sites. The 105 unassociated funerary objects are 9 stones, 31 pottery sherds, 5 scrapers or knives, 1 pumice, 25 projectile points, 16 pieces of rock and plant samples, 1 lead nugget, 2 metate, 2 manos, 1 bag of hammer stones, 1 chopper, 5 boxes and 1 sack of pottery sherds, 1 bag of bones, 2 artifacts, 2 abraders.

Determinations Made by the St. Joseph Museums, Inc.

Officials of the St. Joseph Museums, Inc., have determined that:

• Pursuant to 25 U.S.C. 3001(3)(B), the 224 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Iowa Tribe of Kansas and Nebraska; Iowa Tribe of Oklahoma; Sac & Fox Nation of Missouri in Kansas and Nebraska; Sac & Fox Nation, Oklahoma; and The Osage Nation (previously listed as the Osage Tribe).

Additional Requestors and Disposition

Lineal descendants or representatives of any Indian tribe or Native Hawaiian organization not identified in this notice that wish to claim these cultural items should submit a written request with information in support of the claim to Trevor Tutt, St. Joseph Museums, Inc., P.O. Box 8096, St. Joseph, MO 64508, telephone (816) 232-8471, email trevor@stjosephmuseum.org, by April 14, 2017. After that date, if no additional claimants have come forward, transfer of control of the unassociated funerary objects to the Iowa Tribe of Kansas and Nebraska; Iowa Tribe of Oklahoma; Sac & Fox Nation of Missouri in Kansas and Nebraska; Sac & Fox Nation, Oklahoma; and The Osage Nation (previously listed as the Osage Tribe) may proceed.

The St. Joseph Museums, Inc., is responsible for notifying the Iowa Tribe of Kansas and Nebraska; Iowa Tribe of Oklahoma; Sac & Fox Nation of Missouri in Kansas and Nebraska; Sac & Fox Nation, Oklahoma; and The Osage Nation (previously listed as the Osage Tribe) that this notice has been published.

Dated: February 14, 2017.
Melanie O'Brien,
Manager, National NAGPRA Program.

[FR Doc. 2017-05093 Filed 3-14-17; 8:45 am]

BILLING CODE 4312-52-P